NATIONAL AERONAUTICS AND SPACE ADMINISTRATION

[Notice 01-102]

Government-Owned Inventions, Available for Licensing

AGENCY: National Aeronautics and Space Administration.

ACTION: Notice of availability of inventions for licensing.

SUMMARY: The inventions listed below are assigned to the National Aeronautics and Space Administration, have been filed in the United States Patent and Trademark Office, and are available for licensing.

DATES: August 30, 2001.

FOR FURTHER INFORMATION CONTACT: Edward Fein, Patent Counsel, Johnson Space Center, Mail Code HA, Houston, TX 77058-3696; telephone (281) 483-4871, fax (281) 244-8452.

NASA Case No. MSC-22839-1: Locating Concealed Objects Using Special Signatures;

NASA Case No. MSC-22953-2: Method And Apparatus For Reducing The Vulnerability Of Latches To Single Event Upsets;

NASA Case No. MSC-22953-3: Method And Apparatus For Reducing The Vulnerability Of Latches To Single Event Upsets;

NASA Case No. MSC-22970-2: Solar Powered Refrigeration System;

NASA Case No. MSC-22970-3: Solar Powered Refrigeration System;

NASA Case No. MSC-23092-1: Advanced, Large Volume, Highly Loaded, Hybrid Inflatable Pressure Vessel;

NASA Case No. MSC-23228-1: Distributed Antenna System And Method;

NASA Case No. MSC-23314-1: Flexshield;

NASA Case No. MSC-23320-1: Patial Light Modulators For Full Cross-Connections In Optical Networks.

Dated: August 22, 2001.
Edward A. Frankle,
General Counsel.

[FR Doc. 01-21870 Filed 8-29-01; 8:45 am]

BILLING CODE 7510-01-P